DEPARTMENT OF VETERANS AFFAIRS

Privacy Act of 1974; System of Records

AGENCY: Department of Veterans Affairs (VA).

ACTION: Notice to Delete System of Records.

SUMMARY: The Department of Veterans Affairs (VA) is deleting a system of records entitled “Missing Veterans File—VA” (19VA53), which was established at 42 Fed. Reg. 49736, dated Sept. 27, 1977. The system contained records concerning veterans who could not be located after a reasonable effort by VA and included correspondence between VA facilities, including the Office of Inspector General and Regional Offices, and with the Federal Bureau of Investigation, and the U.S. Passport Office. This system of records is being deleted because it is no longer being used by the Department and there are no records remaining.

A “Report of Intention to Publish a Federal Notice of Deletion of a System of Records” and a copy of the deletion of system notice have been provided to the appropriate Congressional committees and to the Office of Management and Budget (OMB), as required by 5 U.S.C. 552a(r) and guidelines issued by OMB, 65 FR 77677 (Dec. 12, 2000).

DATES: Effective date: March 11, 2008.

FOR FURTHER INFORMATION CONTACT: Timothy J. McGrath, Attorney Advisor, Office of Inspector General (50C) , Department of Veterans Affairs, 810 Vermont Ave., NW., Washington , DC 20420, (202) 565-8623.

Approved: February 25, 2008.
Gordon H. Mansfield,
Deputy Secretary of Veterans Affairs.

[FR Doc. E8-4850 Filed 3-10-08; 8:45 am]

BILLING CODE 8320-01-P